DEPARTMENT OF HOUSING AND URBAN DEVELOPMENT

[Docket No. FR-5030-C-31A]

Notice of HUD's Fiscal Year (FY) 2006 Notice of Funding Availability, Policy Requirements and General Section to SuperNOFA for HUD's Discretionary Grant Programs; Additional Information Regarding Applicant Registration

AGENCY: Office of the Secretary, HUD.

ACTION: Super Notice of Funding Availability (SuperNOFA) for HUD Discretionary Grant Programs; Additional Information Regarding Applicant Registration.

SUMMARY: On January 20, 2006, HUD published its Fiscal Year (FY) 2006, Notice of Funding Availability Policy Requirements and General Section (General Section) to the SuperNOFA for HUD's Discretionary Programs. On March 8, 2006, HUD published its Fiscal Year (FY) 2006, SuperNOFA, for HUD's Discretionary Grant Programs. This notice announces a change made to how the Central Contractor Registry (CCR) will capture and use applicant identification data and extends the due date for the Resident Opportunity and Self-Sufficiency (ROSS) Family-Homeownership NOFA. The change contained in this notice does not affect the application packages on Grants.gov.

DATES: The application submission dates for the Resident Opportunity and Self-Sufficiency (ROSS) Family-Homeownership has been extended from August 8, 2006 to September 8, 2006.

FOR FURTHER INFORMATION CONTACT: Questions regarding the General Section of January 20, 2006, should be directed to the NOFA Information Center between the hours of 10 a.m. and 6:30 p.m. Eastern Time at (800) HUD-8929. Hearing-impaired persons may call 800-HUD-2209. For the programs listed in this notice, please contact the office or individual listed under Section VII of the individual program sections of the SuperNOFA, published on March 8, 2006.

SUPPLEMENTARY INFORMATION: On January 20, 2006 (71 FR 3382), HUD published its FY2006 General Section to the SuperNOFA for HUD's Discretionary Programs. Early publication of the General Section was intended to provide prospective applicants with additional time to become familiar with and address those provisions in the General Section that constitute part of almost every application. On March 8, 2006 (71 FR 11712), HUD published its Notice of HUD's Fiscal Year (FY) 2006, SuperNOFA for HUD's Discretionary Grant Programs. The FY2006 SuperNOFA announced the availability of approximately $2.2 billion in HUD assistance. This notice published in today's Federal Register announces one change that may affect applicants that have not completed their CCR registration. As this change was recently implemented by CCR, HUD is extending the deadline date for the Resident Opportunity and Self-Sufficiency (ROSS) Family-Homeownership NOFA. The due date for this program has been extended 30 days the ROSS Family-Homeownership applications are due on September 8, 2006.

HUD is extending the due date because of a governmentwide policy change that is being implemented by CCR. Effective August 1, 2006, instead of obtaining name and address information directly from the registrant, CCR will obtain the following data fields from Dun and Bradstreet (D&B): Legal Business Name; Doing Business Name (DBA); Physical Address; Postal Code/ZIP+4. Once implemented, CCR registrants will not be able to enter or modify these fields in CCR because they will be pre-populated using D&B Data Universal Numbering System (DUNS) record data. During a new registration or when updating a record, the registrant will have a choice to accept or reject the information provided from D&B.

Under this revised system, if the CCR registrant agrees with the D&B supplied information, the D&B data will be accepted into the CCR registrant record. If the CCR registrant disagrees with the D&B supplied information, the registrant will need to go to the D&B Web site http://fedgov.dnb.com/webform to modify the information contained in the D&B record before proceeding with its CCR registration. When D&B confirms the modification has been made, the registrant must then revisit the Web site, www.ccr.gov and “accept” D&B's changes. Once accepted, the D&B data will be entered into the CCR record. CCR advises that it may take up to two business days for D&B to send the modified data to CCR and that timeframe may be longer in some cases. Registrants may contact D&B Government Helpdesk at: govt@dnb.com. For additional information about the CCR policy change, see the “frequently asked questions at http://www.ccr.gov/newsdetail.asp?id=55&type=N or the CCR Assistance Center Web site at http://www.dlis.dla.mil/cust.asp.

Applicants with a current registration are not affected. The CCR policy change affects only those applicants that have not yet registered, have not completed registrations, or applicants updating their registration after July 28, 2006. Applicants that have already submitted their application do not need to resubmit unless they want to revise their application. In such instances, applicants must resubmit the entire application, including any faxes sent using the form HUD-96011 as the cover page to the fax. HUD will review the last application received and validated by Grants.gov by the deadline date and time.

Dated: August 2, 2006.
Keith Nelson,
Assistant Secretary for Administration.

[FR Doc. 06-6769 Filed 8-3-06; 3:28 pm]

BILLING CODE 4210-67-P